DEPARTMENT OF LABOR

Employment and Training Administration

Comment Request for Information Collection for Reemployment Services and Outcomes for Unemployment Insurance (UI) Claimants in Federal Programs, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

ETA is soliciting comments concerning the continuation of the collection of data about reemployment services and outcomes for UI claimants in Federal programs beyond the current expiration date of 10/31/2012.

DATES: Written comments must be submitted to the office listed in the addresses section below on or before October 12, 2012.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

ETA is seeking to renew a collection of information for the purposes of describing reemployment activities for UI claimants in Federal programs. The basic report format is very similar to the existing ETA 9002 report (Office of Management and Budget number 1205-0240) that covers quarterly performance data for Wagner-Peyser Act funded public labor exchange. ETA has well established reporting instructions, reporting software, reporting formats and reporting logic that is used for existing reemployment service delivery reporting for UI claimants, and ETA uses this existing structure to serve UI claimants in Federal programs, as required by Section 2142 of the Middle Class Tax Relief and Job Creation Act of 2012 (Pub. L. 112-96). ETA believes that the use of an existing standard in reporting for reemployment service delivery minimizes the burden on states as they seek to rapidly implement the requirements of Public Law 112-96. ETA believes that adapting an existing, approved reporting structure that is extensively used, well tested and well understood presents the best, and possibly only option, for collecting meaningful performance and evaluation data on this program.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Reemployment Services and Outcomes for UI Claimants in Federal Programs.

OMB Number: 1205-0493.

Affected Public: State Workforce Agencies.

Form(s): ETA 9002 EUC.

Respondent type | Respondents | Hours per response | Annualized responses | Annualized hours
Job Seeker Collection Burden | 3,500,000 | 0.0333 | 1 per claimant | 116,667
Quarterly Reporting Burden for SWAs | 53 | 80 | 4 | 16,960
Unduplicated Totals | 3,500,053 |  |  | 133,627

Total Annual Burden Cost for Respondents: There is no burden cost.

Comments submitted in response to this comment request will be summarized and/or included in the request for OMB approval of the ICR; they will also become a matter of public record.

Dated: Signed in Washington, DC, on this 6th day of August, 2012.
Jane Oates,
Assistant Secretary for Employment and Training, Labor.

[FR Doc. 2012-19705 Filed 8-10-12; 8:45 am]

BILLING CODE 4510-FW-P